ENVIRONMENTAL PROTECTION AGENCY

[OPPT-2002-0037; FRL-7187-9]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from May 22 2002 to June 22, 2002, consists of the PMNs and TMEs, both pending or expired, and the notices of commencement to manufacture a new chemical that the Agency has received under TSCA section 5 during this time period. The “S” and “G” that precede the chemical names denote whether the chemical idenity is specific or generic.

DATES: Comments identified by the docket ID number OPPT-2002-0037 and the specific PMN number, must be received on or before August 8, 2002.

ADDRESSES: Comments may be submitted by mail, electronically, or in person. Please follow the detailed instructions for each method as provided in Unit I. of the SUPPLEMENTARY INFORMATION. To ensure proper receipt by EPA, it is imperative that you identify docket ID number OPPT-2002-0037 and the specific PMN number in the subject line on the first page of your response.

FOR FURTHER INFORMATION CONTACT: Barbara Cunningham, Acting Director, Environmental Assistance Division, Office of Pollution Prevention and Toxics (7408M), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations”,” Regulations and Proposed Rules, and then look up the entry for this document under the “Federal Register—Environmental Documents.” You can also go directly to the Federal Register listings at http://www.epa.gov/fedrgstr/.

2. In person. The Agency has established an official record for this action under docket ID number OPPT-2002-0037. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B- 607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket ID number OPPT-2002-0037 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket ID number OPPT-2002-0037 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket ID number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from May 22 2002 to June 22, 2002, consists of the PMNs and TMEs, both pending or expired, and the notices of commencement to manufacture a new chemical that the Agency has received under TSCA section 5 during this time period.

III. Receipt and Status Report for PMNs and TMEs

This status report identifies the PMNs and TMEs, both pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 87 Premanufacture Notices Received From: 05/22/02 to 06/22/02
Case No. | Received Date | Projected Notice End Date | Manufacturer/Importer | Use | Chemical
P-02-0698 | 05/22/02 | 08/20/02 | Dow Corning Corporation | (G) Adhesive | (G) Treated metal oxide
P-02-0699 | 05/22/02 | 08/20/02 | CBI | (G) Open non-dispersive use | (G) Substituted aminophenyl substituted heteropolycycle, salt
P-02-0700 | 05/23/02 | 08/21/02 | 3M Company | (G) Protective coating | (G) Fluorochemmical acrylate polymer
P-02-0701 | 05/23/02 | 08/21/02 | CBI | (S) Pigment dispersant | (S) 2-propenoic acid, 2-methyl-, polymer with phosphinicobis(oxy-2,1-ethanediyl) bis[2-methyl-2-propenoate] and 2-(phosphonooxy) ethyl 2-methyl-2-propenoate, peroxydisulfuric acid ([(ho)s(o)2]2o2) disodium salt-initiated, sodium salts
P-02-0702 | 05/23/02 | 08/21/02 | CBI | (S) Pigment dispersant | (S) 2-propenoic acid, 2-methyl-, polymer with phosphinicobis(oxy-2,1-ethanediyl) bis[2-methyl-2-propenoate] and 2-(phosphonooxy) ethyl 2-methyl-2-propenoate, peroxydisulfuric acid ([(ho)s(o)2]2o2) disodium salt-initiated, ammonium salts
P-02-0703 | 05/23/02 | 08/21/02 | CBI | (S) Pigment dispersant | (S) 2-propenoic acid, 2-methyl-, polymer with phosphinicobis(oxy-2,1-ethanediyl) bis[2-propenoate] and 2-(phosphonooxy) ethyl 2-propenoate, peroxydisulfuric acid ([(ho)s(o)2]2o2) disodium salt-initiated, sodium salts
P-02-0704 | 05/23/02 | 08/21/02 | CBI | (S) Pigment dispersant | (S) 2-propenoic acid, 2-methyl-, polymer with phosphinicobis(oxy-2,1-ethanediyl) bis[2-propenoate] and 2-(phosphonooxy) ethyl 2-propenoate, peroxydisulfuric acid ([(ho)s(o)2]2o2) disodium salt-initiated, ammonium salts
P-02-0705 | 05/24/02 | 08/22/02 | International specialty products | (S) Component of coatings for digital printing paper | (S) Sulfuric acid, diethyl ester, compound with nu-[3-(dimethylamino)propyl]-2-methyl-2-propenamide polymer with 1-ethenyl-2-pyrrolidinone, sulfate
P-02-0706 | 05/28/02 | 08/26/02 | Piedmont Chemical Industries I, LLC | (S) Dyeing assistant for polyester | (S) Fatty acids, C16-18 and C18-unsaturated, branched and linear, esters with polyethylene-polypropylene glycol
P-02-0707 | 05/28/02 | 08/26/02 | Ciba Specialty Chemicals Corporation | (S) Photoacid generator for resists in semiconductor and display manufacturing | (G) Camphorsulfonate
P-02-0708 | 05/28/02 | 08/26/02 | Cytec Industries Inc. | (G) Crosslinking agent (substance a and b) | (G) Multifunctional polycarbodiimide (substance a and b)
P-02-0709 | 05/28/02 | 08/26/02 | Cytec Industries Inc. | (G) Crosslinking agent (substance a and b) | (G) Multifunctional polycarbodiimide (substance a and b)
P-02-0710 | 05/28/02 | 08/26/02 | CBI | (G) Gellant | (G) Fatty acids, C18-unsaturated, dimers, hydrogenated, polymers with ethylenediamine and fatty amines
P-02-0711 | 05/28/02 | 08/26/02 | CBI | (G) Gellant | (G) Fatty acids, C18-unsaturated, dimers, hydrogenated, polymers with, ethylenediamine, 2-methyl-1,5-pentanediamine and fatty amines
P-02-0712 | 05/28/02 | 08/26/02 | CBI | (G) Gellant | (G) Fatty acids, C18-unsaturated, dimers, hydrogenated, polymers with 2-methyl-1,5-pentanediamine and fatty amines
P-02-0713 | 05/28/02 | 08/26/02 | CBI | (G) Gellant | (G) Fatty acids, C18-unsaturated, dimers, polymers with ethylenediamine and fatty amines
P-02-0714 | 05/28/02 | 08/26/02 | CBI | (G) Gellant | (G) Fatty acids, C18-unsaturated, dimers, polymers with ethylenediamine, 2-methyl-1,5-pentanediamine and fatty amines
P-02-0715 | 05/28/02 | 08/26/02 | CBI | (G) Gellant | (G) Fatty acids, C18-unsaturated, dimers, polymers with fatty amines and 2-methyl-1,5-pentanediamine
P-02-0722 | 05/29/02 | 08/27/02 | CBI | (G) Destructive use | (G) Halogenated titanium amide
P-02-0723 | 05/29/02 | 08/27/02 | CBI | (G) Destructive use | (G) Halogenated titanium amide
P-02-0724 | 05/30/02 | 08/28/02 | CBI | (G) Nickel and nikel alloy electroplating complex | (G) Alklyamine metal complexes
P-02-0729 | 05/31/02 | 08/29/02 | Solutia Inc. | (S) Resin for industrial paints | (G) Acrylic copolymer
P-02-0730 | 05/31/02 | 08/29/02 | CBI | (G) Chemical intermediate | (G) Polytertiaryamine glycol
P-02-0731 | 06/04/02 | 09/02/02 | CBI | (G) Raw material used to manufacture processing aid | (S) Fatty acids, C16-18 and C18-unsaturated, branched and linear, reaction products with polyethylenepolyamines
P-02-0732 | 06/04/02 | 09/02/02 | GE Silicones | (S) Intermediate | (G) Alkyl hydride silicone
P-02-0733 | 06/04/02 | 09/02/02 | GE Silicones | (G) Formulation additive | (G) Alkyl silicone
P-02-0734 | 06/04/02 | 09/02/02 | GE Silicones | (G) Formulation additive | (G) Crosslinked alkyl silicone
P-02-0735 | 06/04/02 | 09/02/02 | CBI | (S) Resin for spray applied coatings | (G) Acid functional polyester resin amine salted
P-02-0736 | 06/04/02 | 09/02/02 | CBI | (S) Coating for synthetic polymers. | (G) Aqueous dispersion of a polyester based aliphatic polyurethane.
P-02-0737 | 06/04/02 | 09/02/02 | CBI | (G) Colorant for coating compositions | (G) Naphthalenesulfonic acid derivative
P-02-0738 | 06/05/02 | 09/03/02 | CBI | (G) Adhesive for open, non-dispersive use | (G) Polymer of castor oil, alkylene ether glycol and isophorone diisocyanate
P-02-0739 | 06/05/02 | 09/03/02 | CBI | (G) Inhibitor | (G) Amine salt
P-02-0740 | 06/05/02 | 09/03/02 | CBI | (G) Sealant additive | (G) Polyether isocyanate
P-02-0741 | 06/06/02 | 09/04/02 | Dic Imaging Products USA, Inc. | (G) Charge enhancing additive | (S) Piperazine, polymer with 1,6-dichlorohexane*
P-02-0742 | 06/04/02 | 09/02/02 | CBI | (G) Component of a plastic disc. | (G) Polyurethane
P-02-0743 | 06/07/02 | 09/05/02 | Eastman Kodak Company | (S) Adhesion promoter for paints | (G) Modified polyolefin
P-02-0744 | 06/07/02 | 09/05/02 | CBI | (G) Dyestuff | (G) Lithium salt of azo bridged acid
P-02-0745 | 06/10/02 | 09/08/02 | CBI | (G) Open, non-dispersive (chelating agent) | (G) Aqueous solution of iminodisuccinic acid ammonium salt
P-02-0746 | 06/10/02 | 09/08/02 | E.I. Dupont de Nemours and Company, Inc. | (G) Extruded parts and films | (G) Aromatic - aliphatic polyamide
P-02-0747 | 06/10/02 | 09/08/02 | CBI | (G) Film additive | (G) Amine polymer salt
P-02-0748 | 06/10/02 | 09/08/02 | Hybrid Plastics, Inc. | (G) Thermoplastic polymer additive (open, non-dispersive use) | (S) Heptacyclo[11.11.1.13, 11.15,21.17, 19.19,17.115,23] dodecasiloxane, dodecaphenyl-
P-02-0749 | 06/10/02 | 09/08/02 | Hybrid Plastics, Inc. | (G) Thermoplastic polymer additive (open, non-dispersive use) | (S) Pentacyclo[9.5.1.13, 9.15,15.17,13]octasiloxane, octakis(2-methylpropyl)-
P-02-0750 | 06/10/02 | 09/08/02 | Hybrid Plastics, Inc. | (G) Polymer additive (open, nondispersive) | (S) Pentacyclo[9.5.1.13, 9.15,15.17, 13]octasiloxane, octamethyl-
P-02-0751 | 06/10/02 | 09/08/02 | Hybrid Plastics, Inc. | (G) Polymer additive (open, nondispersive) | (S) Pentacyclo[9.5.1.13, 9.15,15.17, 13]octasiloxane, octaphenyl-
P-02-0752 | 06/10/02 | 09/08/02 | E.I. Dupont de Nemours and Company, Inc. | (S) Isolated intermediate | (G) Salt of aromatic acids and aliphatic amine
P-02-0753 | 06/11/02 | 09/09/02 | Ciba Specialty Chemicals Corporation | (S) Photoresist for electronics industry; color filter resist for manufacturing of color filters | (G) Oxime ester
P-02-0754 | 06/11/02 | 09/09/02 | Solutia Inc. | (S) Cross-linker for industrial coatings | (G) Amine modified epoxy resin
P-02-0755 | 06/11/02 | 09/09/02 | CBI | (G) Adhesives for open, non-dispersive use | (G) Polymer of oxirane, mono[(C12-C14-alkoxy)methyl] derivative and alkyamine
P-02-0756 | 06/11/02 | 09/09/02 | Solutia Inc. | (S) Cross-linker for industrial coatings | (G) Amine modified epoxy resin
P-02-0757 | 06/11/02 | 09/09/02 | CBI | (G) An open non-dispersive use | (G) Rosin modified phenolic resin
P-02-0758 | 06/12/02 | 09/10/02 | Loctite Corporation | (S) A component of adhesive formulations for general indusrial bonding applications | (S) Poly(oxy-1,4-butanediyl), alpha-[[[3,3,5-trimethyl-5-[[[[[[[[[[3,3,5- trimethyl-5-[[[[2-[(2-methyl-1-oxo-2-propenyl)oxy [ethoxy]carbonyl]amino]methyl] cyclohexyl]amino]carbonyl] oxy]methyl]tricyclodecyl] methoxy]carbonyl]amino]methyl] cyclohexyl[amino]carbonyl]-omega-[[[[3,3,5-trimethyl-5- [[[[[[[[[3,3,5-trimethyl-5-[[[[2- [(2-methyl-1-oxo-2-propenyl)oxy]ethoxy] carbonyl]amino]methyl]cyclohexyl] amino]carbonyl]oxy]methyl] tricyclodecyl]methoxy] carbonyl]amino]methyl] cyclohexyl]amino]carbonyl]oxy]-
P-02-0759 | 06/12/02 | 09/10/02 | The Dow Chemical Company | (G) Thin film dielectric layers for microelectronic applications | (G) Silsesquioxane, siloxane
P-02-0760 | 06/11/02 | 09/09/02 | CBI | (G) All purpose cleaner and paint reemover | (G) Hydroxal fatty acids esters
P-02-0761 | 06/14/02 | 09/12/02 | Ethox Chemicals, LLC | (S) Pariffin wax additive | (S) Octadecanoic acid, 2-[[2,2-bis[[(1-oxooctadecyl) oxy]methyl]butoxy]methyl]- 2-ethyl-1,3-prop anediyl ester
P-02-0762 | 06/14/02 | 09/12/02 | CBI | (G) Open, non-dispersive (binder in coatings applications) | (G) Polyester polyol
P-02-0763 | 06/14/02 | 09/12/02 | Ashland Inc. | (G) Open, dipersive-used in reinforced molding operations | (G) Unsaturated polyester
P-02-0764 | 06/14/02 | 09/12/02 | The Dow Chemical Company | (G) Coating | (G) Aspartic ester
P-02-0765 | 06/12/02 | 09/10/02 | CBI | (G) Lubricant, for oil fields. | (G) Alkyl phosphate ester
P-02-0766 | 06/14/02 | 09/12/02 | CBI | (S) Flame retardant for plastic articles | (G) Polyphosphoric acids, amine salt
P-02-0767 | 06/14/02 | 09/12/02 | CBI | (G) Component of odorant compositions for highly dispersive applications | (G) Substituted alkene
P-02-0768 | 06/17/02 | 09/15/02 | IFS Industries, Inc. | (S) Panel assembly | (G) Isocyanate terminated hot melt polyurethane adhesive
P-02-0769 | 06/17/02 | 09/15/02 | IFS Industries, Inc. | (S) Panel assembly | (G) Isocyanate terminated hot melt polyurethane adhesive
P-02-0770 | 06/17/02 | 09/15/02 | IFS Industries, Inc. | (S) Panel assembly | (G) Isocyanate terminated hot melt polyurethane adhesive
P-02-0771 | 06/17/02 | 09/15/02 | CBI | (S) Resin for inks; resins for coatings and adhesives | (G) Polyether polyurethane
P-02-0772 | 06/18/02 | 09/16/02 | Cognis Corporation | (G) Surfactant | (S) D-glucopyranose, oligomeric, 2-ethylhexyl glycosides
P-02-0773 | 06/18/02 | 09/16/02 | Warner-Jenkinson Company, Inc. | (G) Intermediate | (G) Remazolamine
P-02-0774 | 06/18/02 | 09/16/02 | Danisco USA Inc. | (S) Plasticizer for pvc + other plastics/films; colorant carrier for plastics; dye dispersant for hot melt inks | (S) Octadecanoic acid, 12-(acetyloxy)-, 2,3-bis(acetyloxy)propyl ester(9ci)
P-02-0775 | 06/20/02 | 09/18/02 | The Dow Chemical Company | (G) Binder for recycled plastic and rubber | (G) 1,1′methylenebis[diisocyanato] benzene, polyetherpolyol polymer
P-02-0776 | 06/20/02 | 09/18/02 | CBI | (G) Chemical intermediate | (G) Alkoxylated aromatic aldehyde
P-02-0777 | 06/20/02 | 09/18/02 | CBI | (G) Chemical intermediate | (G) Alkoxylated aromatic aldehyde
P-02-0778 | 06/20/02 | 09/18/02 | R. T. Vanderbilt Company, Inc. | (S) Antioxidant/anti-wear additive for lubricants | (G) Dialkyl dithiocarbamate ester
P-02-0779 | 06/20/02 | 09/18/02 | R. T. Vanderbilt Company, Inc. | (S) Antioxidant/anti-wear additive for lubricants | (G) Dialkyl dithiocarbamate ester
P-02-0780 | 06/20/02 | 09/18/02 | R. T. Vanderbilt Company, Inc. | (S) Antioxidant/anti-wear additive for lubricants | (G) Dialkyl dithiocarbamate ester
P-02-0781 | 06/20/02 | 09/18/02 | CBI | (G) Polymeric chromophore | (G) Polyalkoxylated aromatic chromophore
P-02-0782 | 06/20/02 | 09/18/02 | CBI | (G) Polymeric chromophore | (G) Polyalkoxylated aromatic chromophore
P-02-0783 | 06/20/02 | 09/18/02 | CBI | (G) Polymeric chromophore | (G) Polyalkoxylated aromatic chromophore
P-02-0784 | 06/20/02 | 09/18/02 | CBI | (G) Polymeric chromophore | (G) Polyalkoxylated aromatic chromophore
P-02-0785 | 06/20/02 | 09/18/02 | CBI | (G) Polymeric chromophore | (G) Polyalkoxylated aromatic chromophore
P-02-0786 | 06/20/02 | 09/18/02 | CBI | (G) Polymeric chromophore | (G) Polyalkoxylated aromatic chromophore
P-02-0787 | 06/21/02 | 09/19/02 | CBI | (G) Component of coating with open use | (G) Epoxy functional styrenated methacrylate
P-02-0788 | 06/21/02 | 09/19/02 | CBI | (S) Industrial uv coatings and inks | (G) Urethane acrylate ester
P-02-0789 | 06/21/02 | 09/19/02 | The Dow Chemical Company | (S) Ultraviolet curable binder for overprint varnish; ultraviolet curable binder for inks; ultraviolet curable binder for wood coatings | (G) Ultraviolet-curable resin
P-02-0790 | 06/21/02 | 09/19/02 | The Dow Chemical Company | (S) Ultraviolet curable binder for overprint varnish; ultraviolet curable binder for inks; ultraviolet curable binder for wood coatings | (G) Ultraviolet-curable resin
P-02-0791 | 06/21/02 | 09/19/02 | The Dow Chemical Company | (S) Ultraviolet curable binder for overprint varnish; ultraviolet curable binder for inks; ultraviolet curable binder for wood coatings | (G) Ultraviolet-curable resin
P-02-0792 | 06/21/02 | 09/19/02 | The Dow Chemical Company | (S) Ultraviolet curable binder for overprint varnish; ultraviolet curable binder for inks; ultraviolet curable binder for wood coatings | (G) Ultraviolet-curable resin
P-02-0793 | 06/21/02 | 09/19/02 | The Dow Chemical Company | (S) Ultraviolet curable binder for overprint varnish; ultraviolet curable binder for inks; ultraviolet curable binder for wood coatings | (G) Ultraviolet-curable resin
P-02-0794 | 06/21/02 | 09/19/02 | The Dow Chemical Company | (S) Ultraviolet curable binder for overprint varnish; ultraviolet curable binder for inks; ultraviolet curable binder for wood coatings | (G) Ultraviolet-curable resin

In table II, EPA provides the following information (to the extent that such information is not claimed as CBI) on the TMEs received:

II. 2 Test Marketing Exemption Notices Received From: 05/22/02 to 06/22/02
Case No. | Received Date | Projected Notice End Date | Manufacturer/Importer | Use | Chemical
T-02-0007 | 06/20/02 | 08/04/02 | ITW Devcon | (G) Oil resistant industrial coating | (G) Isocyanati-terminated polyurethane prepolymer
T-02-0008 | 06/21/02 | 08/05/02 | CBI | (G) Cleaning hydrotrope | (G) Monoalkyl quaternary ammonium salt

In table III, EPA provides the following information (to the extent that such information is not claimed as CBI) on the Notices of Commencement to manufacture received:

III. 44 Notices of Commencement From: 05/22/02 to 06/22/02
Case No. | Received Date | Commencement/Import Date | Chemical
P-00-0173 | 05/31/02 | 05/06/02 | (S) Tridecene
P-00-0377 | 06/14/02 | 05/16/02 | (G) Fluoroolefin copolymer
P-00-0419 | 06/04/02 | 04/18/02 | (G) Polycarbonate polyester
P-00-1117 | 06/19/02 | 05/29/02 | (G) Alkenyl keto acid
P-00-1165 | 06/18/02 | 05/15/02 | (G) Fluoropolyether derivative
P-01-0075 | 06/14/02 | 06/11/02 | (G) Substituted benzofuranone
P-01-0590 | 05/24/02 | 10/03/01 | (G) Substituted amido benzoic acid ester
P-01-0622 | 06/11/02 | 05/16/02 | (G) Substituted ppvs (poly-p-phenylen-vinylens)
P-01-0727 | 06/20/02 | 05/20/02 | (G) Modified acrylic resin
P-01-0920 | 06/14/02 | 05/15/02 | (G) Polymer ester of mono and dibasic acids
P-01-0923 | 06/18/02 | 06/10/02 | (G) Cycloalkyl acetate
P-01-0924 | 05/30/02 | 05/03/02 | (G) Carbo cyclic oxime
P-01-0928 | 06/20/02 | 06/10/02 | (G) Alkoxysilane
P-02-0063 | 05/24/02 | 04/26/02 | (S) Cyclohexanecarboxylic acid, 1,4-dimethyl-, methyl ester (cis and trans); cyclohexanecarboxylic acid, 1,3-dimethyl-, methyl ester (cis and trans)
P-02-0101 | 06/11/02 | 05/08/02 | (G) Substituted pyridinedicarboxylic acid
P-02-0126 | 06/14/02 | 05/09/02 | (G) Polymer ester of mono and dibasic acids
P-02-0136 | 06/19/02 | 06/05/02 | (G) Polyester polyurethane
P-02-0142 | 05/23/02 | 05/10/02 | (G) Urethane acrylate
P-02-0149 | 06/17/02 | 05/16/02 | (G) Alkyl octanal
P-02-0171 | 06/21/02 | 05/29/02 | (G) Organophosphorous salt
P-02-0173 | 06/05/02 | 05/07/02 | (S) N-ethyl-n-(3-methylphenyl) propionamide
P-02-0194 | 05/28/02 | 05/04/02 | (G) Aliphatic urethane
P-02-0195 | 06/10/02 | 05/23/02 | (G) Fluorochemical urethane
P-02-0204 | 05/30/02 | 05/17/02 | (G) Polyurethane resin dispersion
P-02-0206 | 05/30/02 | 05/17/02 | (G) Polyurethane resin despersion
P-02-0208 | 06/06/02 | 05/20/02 | (G) Siloxane polyol ester
P-02-0237 | 06/11/02 | 05/24/02 | (G) Acrylic polymer
P-02-0243 | 06/14/02 | 05/17/02 | (G) Isocyanate terminated urethane polymer
P-02-0255 | 06/04/02 | 05/02/02 | (G) Polyester polyether isocyanate
P-02-0261 | 05/30/02 | 05/10/02 | (G) Piperidinol
P-02-0289 | 06/04/02 | 05/16/02 | (S) Carbonic acid, dimethyl ester, polymer with 1,4-cyclohexanedimethanol and 1,6-hexanediol
P-02-0293 | 05/30/02 | 05/17/02 | (G) Acrylic polymer
P-02-0321 | 06/05/02 | 05/17/02 | (G) Ethoxy alkene
P-02-0323 | 05/24/02 | 05/09/02 | (G) Modified fatty acid ester
P-02-0325 | 06/07/02 | 05/06/02 | (G) Polyurethane prepolymer
P-02-0330 | 05/29/02 | 05/07/02 | (G) Polyalkylene glycol, alkyl ether, reaction products with diisocyanatoalkane and polyalkylene glycol
P-02-0346 | 06/10/02 | 05/22/02 | (G) Alkyd resin
P-02-0347 | 06/03/02 | 05/13/02 | (S) Fatty acids, C16-18 and C18-unsaturated, branched and linear, esters with high-boiling C6-10 alkene hydroformylation products
P-02-0372 | 06/04/02 | 05/21/02 | (G) Bifunctional reactive azo dye
P-02-0375 | 06/04/02 | 05/21/02 | (G) Bifunctional reactive azo dye
P-02-0405 | 06/18/02 | 06/11/02 | (G) Polyester-type polyurethane
P-98-0393 | 05/30/02 | 05/13/02 | (G) Aqueous polyurethane dispersion
P-99-1037 | 06/13/02 | 06/10/02 | (G) Alkylphenol mannich
P-99-1163 | 06/06/02 | 05/07/02 | (S) Palladium(2-), tetraamine-, [sp-4-1]-, carbonate (1:2)

List of Subjects

Environmental protection, Chemicals, Premanufacturer notices.

Dated: July 2, 2002.
Sandra R. Wilkins,
Acting Director, Information Management Division, Office of Pollution Prevention and Toxics.

[FR Doc. 02-17191 Filed 7-8-02; 8:45 am]

BILLING CODE 6560-50-S